DEPARTMENT OF THE INTERIOR

Bureau of Land Management

43 CFR Part 2930

RIN 1004-AD68

[WO-250-1220-PA-24 1A]

Permits for Recreation on Public Lands

AGENCY: Bureau of Land Management, Interior.

ACTION: Proposed rule; correction; extension of comment period.

SUMMARY: This document corrects the regulatory text of a proposed rule published in the Federal Register of November 22, 2005, regarding permits for recreation on public lands. First, it corrects two prohibited acts provisions to make it clear that persons who fail to pay a permit fee will incur a maximum penalty of $100, as provided in the Federal Lands Recreation Enhancement Act (the Act), but that those who fail to obtain a permit will be subject to the higher penalties of the Federal Lands Policy and Management Act and other laws, as provided by the Act. Second, it corrects a penalty provision to be consistent with the correction in the prohibited acts provisions. Also, the document extends the comment period in light of the substantive nature of the corrections.

DATES: You should submit your comments by March 20, 2006. BLM will not necessarily consider comments postmarked or received by messenger or electronic mail after the above date in the decisionmaking process on the proposed rule.

ADDRESSES: Mail: Director (630), Bureau of Land Management, Administrative Record, Room 401-LS, Eastern States Office, 7450 Boston Boulevard, Springfield, Virginia 22153. Personal or messenger delivery: Room 401, 1620 L Street, NW., Washington, DC 20036. Federal eRulemaking Portal: http://www.regulations.gov Internet e-mail: comments_washington@blm.gov. (Include “Attn: AD68”).

FOR FURTHER INFORMATION CONTACT: Anthony Bobo at (202) 452-0333, as to the substance of the proposed rule, or Ted Hudson at (202) 452-5042, as to procedural matters. Persons who use a telecommunications device for the deaf (TDD) may contact either individual by calling the Federal Information Relay Service (FIRS) at (800) 877-8339, 24 hours a day, 7 days a week.

Correction

In proposed rule FR Doc. 05-23113, beginning on page 70570 in the issue of November 22, 2005 (70 FR 70570), make the following corrections in the regulatory text:

1. On page 70573 in the 2nd and 3rd columns, under item 3 of the regulatory text, correct § 2932.57 by revising paragraphs (b)(1) and (2) to read as follows:

§ 2932.57 Prohibited acts and penalties.

* * * * *

(b) Penalties. (1) If you are convicted of any act prohibited by paragraphs (a)(2) through (a)(7) of this section, or of failing to obtain a Special Recreation Permit under paragraph (a)(1) of this section, you may be subject to a sentence of a fine or imprisonment or both for a Class A misdemeanor in accordance with 18 U.S.C. 3571 and 3581 et seq. under the Federal Land Policy and Management Act of 1976 (43 U.S.C. 1733(a)).

(2) If you are convicted of failing to pay a fee required by paragraph (a)(1) of this section, you may be subject to a sentence of a fine not to exceed $100 for the first offense, or a sentence of a fine and or imprisonment for a Class A or B misdemeanor in accordance with 18 U.S.C. 3571 and 3581 et seq. for all subsequent offenses.

* * * * *

2. In the table at the bottom of page 70573 and the top of page 70574, under item 4 of the regulatory text, correct § 2933.33(d) by revising the first column of paragraphs (1) and (3) to read as follows:

§ 2933.33 Prohibited acts and penalties.

* * * * *

(d) * * *

(1) Failing to obtain a permit under paragraph (a)(1) of this section, or any act prohibited by paragraph (a)(4), (5), or (6) of this section. * * *

* * * * *

(3) Failing to pay a Recreation Use Permit fee required by paragraph (a)(1) of this section, or any act prohibited by paragraph (a)(3) of this section. * * *

Dated: January 10, 2006.
Johnnie Burton,
Acting Assistant Secretary of the Interior.

[FR Doc. 06-402 Filed 1-17-06; 8:45 am]

BILLING CODE 4310-84-M